NATIONAL SCIENCE FOUNDATION

Astronomy and Astrophysics Advisory Committee; Notice of Meeting

In accordance with the Federal Advisory Committee Act (Pub. L. 92-463, as amended), the National Science Foundation (NSF) announces the following meeting:

NAME AND COMMITTEE CODE: Astronomy and Astrophysics Advisory Committee (#13883) (Teleconference)

DATE AND TIME: June 15, 2020; 12:00pm-4:00pm.

PLACE: National Science Foundation, 2415 Eisenhower Avenue, Alexandria, VA 22314, Room C9080 (Teleconference).

Attendance information for the meeting will be forthcoming on the website: https://www.nsf.gov/mps/ast/aaac.jsp.

TYPE OF MEETING: Open.

CONTACT PERSON: Dr. Christopher Davis, Program Director, Division of Astronomical Sciences, Suite W 9136, National Science Foundation, 2415 Eisenhower Avenue, Alexandria, VA 22314; Telephone: 703-292-4910.

PURPOSE OF MEETING: To provide advice and recommendations to the National Science Foundation (NSF), the National Aeronautics and Space Administration (NASA) and the U.S. Department of Energy (DOE) on issues within the field of astronomy and astrophysics that are of mutual interest and concern to the agencies.

AGENDA: To provide updates on Agency activities.

Dated: March 2, 2020.
Crystal Robinson,
Committee Management Officer.

[FR Doc. 2020-04501 Filed 3-4-20; 8:45 am]

BILLING CODE 7555-01-P